DEPARTMENT OF COMMERCE

National Oceanic and Atmospheric Administration

[I.D. 071202H]

Endangered Species; File No. 1388

AGENCY: National Marine Fisheries Service (NMFS), National Oceanic and Atmospheric Administration (NOAA), Commerce.

ACTION: Receipt of application.

SUMMARY: Notice is hereby given that Dr. David A. Nelson, U.S. Army Research And Development Center, Waterway Experimental Station, 4104 Freetown Road, Vickburg, MS 39183, has applied in due form for a permit to take green (Chelonia mydas), hawksbill (Eretmochelys imbricata), loggerhead (Caretta caretta), Kemp’s ridley (Lepidochelys kempi) and leatherback (Dermochelys coriacea) turtles for purposes of scientific research.

DATES: Written or telefaxed comments must be received on or before August 22, 2002.

ADDRESSES: The application and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371; and

Southeast Region, NMFS, 9721 Executive Center Drive North, St. Petersburg, FL 33702-2432; phone (727)570-5301; fax (727)570-5320.

FOR FURTHER INFORMATION CONTACT: Lillian Becker or Ruth Johnson, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes three projects along the northwestern Atlantic Ocean and the Gulf of Mexico. The first is to perform turtle relocation trawling for U.S. Army Corps of Engineer dredging projects. The purpose of this action is risk assessment or relocation of the turtles in the channels being dredged. All turtles captured will be handled, flipper and PIT tagged, and released away from the dredging hopper. The applicant requests to take 180 loggerhead, 25 Kemp’s ridley, 2 Hawksbill, 20 green, and 2 leatherback turtles per year.

The second project is to perform relative abundance and habitat use surveys of near shore areas for green turtles. The turtles will be captured in tangle nets, measured, flipper and PIT tagged, and released. These turtles will also be tagged with both radio and sonic transmitters or time-depth recorders and radio transmitters. The applicant requests to take 75 green turtles per year.

The third project is to investigate large-scale movements and diving behavior. Turtles will be captured by trawling measured, flipper and PIT tagged, and released. A satellite transmitter will be attached. The applicant requests to take 20 loggerhead, 5 Kemp’s ridley, and 5 green turtles per year.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Dated: July 16, 2002.
Eugene T. Nitta,
Acting Chief, Permits, Conservation and Education Division, Office of Protected Resources, National Marine Fisheries Service.

[FR Doc. 02-18591 Filed 7-22-02; 8:45 am]

BILLING CODE 3510-22-S